ENVIRONMENTAL PROTECTION AGENCY

40 CFR Part 261

Identification and Listing of Hazardous Waste

CFR Correction

In Title 40 of the Code of Federal Regulations, Parts 260 to 265, revised as of July 1, 2019, in part 261, remove appendix I to part 261 from above subpart I on page 155, and add it in numerical order after the last section in the part, above appendixes II-III to part 261.

[FR Doc. 2020-13903 Filed 6-25-20; 8:45 am]

BILLING CODE 1301-00-D